DEPARTMENT OF ENERGY

Federal Energy Regulatory Commission

Combined Notice of Filings No. 1

March 2, 2010.

Take notice that the Commission received the following electric rate filings:

Docket Numbers: ER98-4109-006; ER03-175-010; ER03-394-008; ER03-427-008; ER04-170-010; ER07-265-013; ER08-100-012; ER09-1453-003; ER99-3426-012; ER01-1178-007.

Applicants: El Dorado Energy, LLC; Termoelectrica U.S., LLC; Elk Hills Power, LLC; Mesquite Power, LLC; MxEnergy Electric Inc.; Sempra Energy Solutions LLC; Sempra Energy Trading LLC; Gateway Energy Services Corporation; San Diego Gas & Electric Company; Sempra Generation.

Description: Triennial Update of Sempra Energy Market-Based Rate Sellers—Southwest Region.

Filed Date: 03/01/2010.

Accession Number: 20100301-5224.

Comment Date: 5 p.m. Eastern Time on Friday, April 2, 2010.

Docket Numbers: ER99-2992-014; ER02-2509-013; ER94-389-037.

Applicants: Tenaska Power Services Co., Kiowa Power Partners, L.L.C., Tenaska Gateway Partners, Ltd.

Description: Updated Market Power Analysis of Tenaska Power Services Co., et al.

Filed Date: 03/01/2010.

Accession Number: 20100301-5216.

Comment Date: 5 p.m. Eastern Time on Friday, April 2, 2010.

Docket Numbers: ER00-3251-024; ER98-1734-021; ER01-1919-018; ER01-513-030; ER99-2404-017.

Applicants: Exelon New Boston LLC, Commonwealth Edison Company, PECO Energy Company, Exelon West Medway LLC, Exelon Wyman LLC, Exelon Framingham LLC, Exelon New England Power Marketing, LP, Exelon Generation Company, LLC, Exelon Energy Company.

Description: Exelon Updated Market Power Analysis for SPP Region.

Filed Date: 03/01/2010.

Accession Number: 20100301-5212.

Comment Date: 5 p.m. Eastern Time on Friday, April 2, 2010.

Docket Numbers: ER02-862-013.

Applicants: Entergy Power Ventures, L.P.

Description: Entergy Power Ventures, LP requests for Category 1 Seller designation in the Southwest Power Pool region etc.

Filed Date: 03/01/2010.

Accession Number: 20100302-0203.

Comment Date: 5 p.m. Eastern Time on Monday, March 22, 2010.

Docket Numbers: ER03-1284-011; ER05-1202-011; ER08-1225-009; ER09-1321-005.

Applicants: Blue Canyon Windpower II LLC, Cloud County Wind Farm, LLC, Blue Canyon Windpower LLC, Blue Canyon Windpower V LLC.

Description: Updated Market Power Analysis of Blue Canyon Windpower LLC, et al.

Filed Date: 02/26/2010.

Accession Number: 20100226-5194.

Comment Date: 5 p.m. Eastern Time on Tuesday, April 27, 2010.

Docket Numbers: ER05-1232-024; ER07-1358-014.

Applicants: J.P. Morgan Ventures Energy Corporation, BE Louisiana LLC.

Description: J.P. Morgan Ventures Energy Corporation et al. Updated Market Power Analysis and Order 697 Compliance Filing.

Filed Date: 03/01/2010.

Accession Number: 20100301-5201.

Comment Date: 5 p.m. Eastern Time on Friday, April 2, 2010.

Docket Numbers: ER07-312-006.

Applicants: Dogwood Energy LLC.

Description: Market Power Update of Dogwood Energy LLC.

Filed Date: 03/01/2010.

Accession Number: 20100301-5208.

Comment Date: 5 p.m. Eastern Time on Friday, April 2, 2010.

Docket Numbers: ER07-1106-007.

Applicants: ArcLight Energy Marketing, LLC.

Description: Updated Market Power Analysis of ArcLight Energy Marketing, LLC.

Filed Date: 02/26/2010.

Accession Number: 20100226-5192.

Comment Date: 5 p.m. Eastern Time on Tuesday, April 27, 2010.

Docket Numbers: ER08-656-007.

Applicants: Shell Energy North America (U.S.), L.P.

Description: Updated Market Power Analysis for the Southwest Power Pool Region of Shell Energy North America (U.S.), L.P.

Filed Date: 03/01/2010.

Accession Number: 20100301-5211.

Comment Date: 5 p.m. Eastern Time on Friday, April 2, 2010.

Docket Numbers: ER08-1397-003.

Applicants: Elkhorn Ridge Wind, LLC.

Description: Updated Market Power Analysis for the Southwest Power Pool Region of Elkhorn Ridge Wind, LLC.

Filed Date: 03/01/2010.

Accession Number: 20100301-5209.

Comment Date: 5 p.m. Eastern Time on Friday, April 2, 2010.

Docket Numbers: ER09-1370-001.

Applicants: Southwest Power Pool, Inc.

Description: Southwest Power Pool, Inc. submits compliance filing re the Interim Large Generator Interconnection Agreement.

Filed Date: 03/01/2010.

Accession Number: 20100302-0206.

Comment Date: 5 p.m. Eastern Time on Monday, March 22, 2010.

Docket Numbers: ER09-1397-000; ER09-1397-001.

Applicants: Southwest Power Pool, Inc.

Description: Southwest Power Pool, Inc. submits their response to FERC's 2/5/2010 requests for Additional Information concerning its 12/10/09 filing.

Filed Date: 02/25/2010.

Accession Number: 20100301-0066.

Comment Date: 5 p.m. Eastern Time on Thursday, March 18, 2010.

Docket Numbers: ER09-1716-001.

Applicants: Southwest Power Pool, Inc.

Description: Southwest Power Pool, Inc submits an executed Interim Large Generator Interconnection Agreement with Western Farmers Electric Cooperative.

Filed Date: 03/01/2010.

Accession Number: 20100302-0209.

Comment Date: 5 p.m. Eastern Time on Monday, March 22, 2010.

Docket Numbers: ER10-316-001.

Applicants: Midwest Independent Transmission System Operator, Inc.

Description: Midwest Independent Transmission System Operator, Inc resubmits Sheet 421 in compliance with FERC's 1/28/10 Order.

Filed Date: 03/01/2010.

Accession Number: 20100302-0205.

Comment Date: 5 p.m. Eastern Time on Monday, March 22, 2010.

Docket Numbers: ER10-352-001.

Applicants: Southwest Power Pool, Inc.

Description: Southwest Power Pool, Inc submits compliance filing.

Filed Date: 03/01/2010.

Accession Number: 20100302-0207.

Comment Date: 5 p.m. Eastern Time on Monday, March 22, 2010.

Docket Numbers: ER10-392-001.

Applicants: Allegheny Energy Supply Company LLC.

Description: Allegheny Energy Supply Company, LLC submits Original Sheet 2C et al. to its FERC Electric Tariff, Second Revised Volume 1.

Filed Date: 02/26/2010.

Accession Number: 20100301-0064.

Comment Date: 5 p.m. Eastern Time on Friday, March 19, 2010.

Docket Numbers: ER10-454-001.

Applicants: Southwest Power Pool, Inc.

Description: Southwest Power Pool, Inc submits a revised executed Interim Large Generator Interconnection Agreement with Oklahoma Gas & Electric Co et al.

Filed Date: 03/02/2010.

Accession Number: 20100302-0208.

Comment Date: 5 p.m. Eastern Time on Tuesday, March 23, 2010.

Docket Numbers: ER10-715-003.

Applicants: Llano Estacodo Wind, LLC.

Description: Llano Estacado Wind, LLC submits updated market power analysis to support the continued allowance of market-based rates.

Filed Date: 03/01/2010.

Accession Number: 20100302-0201.

Comment Date: 5 p.m. Eastern Time on Friday, April 2, 2010.

Docket Numbers: ER10-719-001.

Applicants: Matched LLC.

Description: Matched LLC submits an amended Asset Appendix and Substitute Original Sheet No. 1.

Filed Date: 03/01/2010.

Accession Number: 20100301-0129.

Comment Date: 5 p.m. Eastern Time on Monday, March 22, 2010.

Docket Numbers: ER10-790-000.

Applicants: El Cajon Energy, LLC.

Description: El Cajon Energy, LLC submits Original Sheet 1 et al. to its FERC Electric Tariff, Original Volume 1 to be effective 4/10/10.

Filed Date: 02/26/2010.

Accession Number: 20100301-0097.

Comment Date: 5 p.m. Eastern Time on Friday, March 19, 2010.

Docket Numbers: ER10-813-000.

Applicants: Southwest Power Pool, Inc.

Description: Southwest Power Pool, Inc submits revised pages to its Open Access Transmission Tariff intended to implement a rate change for Southwestern Power Administration pricing zone under the SPP Tariff.

Filed Date: 03/01/2010.

Accession Number: 20100302-0202.

Comment Date: 5 p.m. Eastern Time on Monday, March 22, 2010.

Docket Numbers: ER10-814-000.

Applicants: Southwest Power Pool, Inc.

Description: Southwest Power Pool, Inc submits an executed Large Generator Interconnection Agreement with Northwest Energy Center, LLC.

Filed Date: 03/01/2010.

Accession Number: 20100302-0204.

Comment Date: 5 p.m. Eastern Time on Monday, March 22, 2010.

Take notice that the Commission received the following electric securities filings:

Docket Numbers: ES09-59-002.

Applicants: National Grid USA.

Description: Revised Exhibits for Amendment to Section 204 Application of National Grid USA.

Filed Date: 03/01/2010.

Accession Number: 20100301-5221.

Comment Date: 5 p.m. Eastern Time on Monday, March 22, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-5058 Filed 3-9-10; 8:45 am]

BILLING CODE 6717-01-P